NATIONAL SCIENCE FOUNDATION

Proposal Review Panel for Polar Programs; Notice of Meeting

In accordance with the Federal Advisory Committee Act (Pub. L. 92-463, as amended), the National Science Foundation announces the following meeting:

Name and Committee Code: CReSIS STC Final Year Reverse Site Visit (1209).

Date/Time: October 7, 2014; 7:30a.m.-5:00p.m.; October 8, 2014; 8:00a.m.-4:00p.m.

Place: National Science Foundation, 4201 Wilson Boulevard, Arlington, VA 22230.

Type of Meeting: Part open.

Contact Persons: Dr. Julie Palais, Program Director, Antarctic Glaciology, Dr. Hedy Edmonds, Program Director, Arctic Natural Sciences, National Science Foundation, 4201 Wilson Blvd., Arlington, VA 22230. (703) 292-8033/8029.

Purpose of Meeting: NSF site visit to conduct a review of the management and other aspects of performance of the CReSIS Science & Technology Center.

Agenda: Meeting is open unless otherwise indicated.

Tuesday, 7 October 2014

7:30-8:00 Arrival (Room 110)

8:00-8:30 Welcome & Introductions—Palais/Edmonds

8:30-9:15 Climate, Ice Sheets, & Sea Level Rise—Joughin

9:15-10:15 Overview of CReSIS & Accomplishments—Gogineni

10:15-10:30 Break

10:30-12:00 Technology

Overview—Hale

Sensors—Leuschen

Platforms—Hale

Field Programs & Results—Anandakrishnan

12:00-2:45 Lunch & Student Poster Presentation in Atrium

3:00-4:00 Data Products & Models

Overview—Braaten

Signal Processing & Data Products—Paden

Use of Radar Data to Determine Snow Accumulation—Medley

Process Models—Joughin

Basin & Continental-scale Models Price/Anandakrishnan

4:00-5:00 Education

Overview—Hayden

Integration of Research into Education—Hale

REU Program—Monteau

K-12 Program—Hamilton/Barnett

5:00-5:30 Executive Session (NSF & Panel) & Panel Meets with Gogineni & Leuschen (Closed)

Wednesday, 8 October 2014

8:00-8:30 Arrival (Room 730; limited space available)

8:30-9:00 Response to Issues Raised the First Day—Gogineni

9:00-9:30 Diversity—Lawrence

9:30-10:15 Knowledge Transfer—Leuschen

10:15-11:00 Break & Panel Meets (Closed)

11:00-11:30 International Collaborations—Gogineni

11:30-12:00 Wrap up by the Panel Chair

12:00-4:00 Working Lunch/Panel Drafts & Provides

Report to NSF (Closed)

Reason for closing: The award being reviewed during the reverse site visit includes information of a proprietary or confidential nature, including technical information; financial data, such as salaries; and personal information concerning individuals associated with the award. These matters are exempt under 5 U.S.C. 552b(c), (4) and (6) of the Government in the Sunshine Act.

Dated: September 10, 2014.
Crystal Robinson,
Acting, Committee Management Officer.

[FR Doc. 2014-22048 Filed 9-16-14; 8:45 am]

BILLING CODE 7555-01-M